DEPARTMENT OF ENERGY

Federal Energy Regulatory Commission

[Docket No. EC06-24-000]

San Juan Mesa Wind Project, LLC, Padoma Project Holdings, LLC, Mission Wind New Mexico; Notice of Filing

November 7, 2005.

Take notice that on November 3, 2005, San Juan Mesa Wind Project, LLC (San Juan Mesa), Padoma Project Holdings, LLC (Padoma) and Mission Wind New Mexico (Mission Wind NM) filed with the Commission an application pursuant to section 203 of the Federal Power Act for authorization of an indirect disposition of jurisdictional facilities in connection with the transfer by Padoma of its one hundred percent membership interest in San Juan Mesa to Mission Wind NM and a subsequent transfer of a twenty-five percent membership interest in San Juan Mesa to Citicorp N.A. or its affiliate. Pursuant to Section 388.112 of the Commission's regulations, 18 CFR 388.112, San Juan Mesa, Padoma and Mission Wind NM request confidential treatment of the documents relating to these respective transactions that are attached as Exhibit I to this Application. San Juan Mesa states that it is developing and constructing an approximately 120 megawatt wind energy generating facility located in Roosevelt and Chaves Counties, New Mexico.

San Juan Mesa states that a copy of the application was served upon the New Mexico Public Regulation Commission.

Any person desiring to intervene or to protest this filing must file in accordance with Rules 211 and 214 of the Commission's Rules of Practice and Procedure (18 CFR. 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 25, 2005.

Magalie R. Salas,
Secretary.

[FR Doc. E5-6280 Filed 11-14-05; 8:45 am]

BILLING CODE 6717-01-P